DEPARTMENT OF TRANSPORTATION

Federal Aviation Administration

Notice of Cessation of Printing and Hard Copy Distribution of Advisory Circulars Issued by the Aircraft Certification Service

AGENCY: Federal Aviation Administration (FAA), DOT.

ACTION: Notice of cessation of printing and hard copy distribution of advisory circulars (AC) issued by the Aircraft Certification Service.

SUMMARY: This notice announces the cessation of printing and distribution of advisory circulars issued by the Aircraft Certification Service. Technology currently allows advisory circulars to be posted to a public Web site, the Regulator and Guidance Library, http://rgl.faa.gov/ for easy public access. Because of this easy public access, the Aircraft Certification Service determined that it is no longer necessary to print and distribute a hard copy of advisory circulars as it has done in the past. This will not only make it easier for the public to have access to advisory circulars issued by the Aircraft Certification Service almost immediately upon issuance, it will also result in a cost savings.

DATES: This cessation of printing and distribution of advisory circulars issued by the Aircraft Certification Service is effective October 1, 2007.

FOR FURTHER INFORMATION CONTACT: Roberta Katson, Acting Manager, Planning and Program Management Division, AIR-500, FAA, 800 Independence Avenue, SW., Washington, DC 20591, phone: 202-493-4633, e-mail: roberta.katson@faa.gov.

SUPPLEMENTARY INFORMATION:

Background

In the past, the only way for the public to see advisory circulars issued by the Aircraft Certification Service was to receive a printed copy in the mail. The FAA provided means for anyone in the public to be placed on a mailing list to receive (or have the opportunity to purchase, if the advisory circular was larger than a certain size) copies of these documents. Technology now allows us to make advisory circulars immediately available to the public upon issuance, via an easily-accessible Web site, the Regulatory and Guidance Library, http://rgl.faa.gov. Because of the ease of access of this Web site, and because not printing our advisory circulars would be a cost-saving measure for the government, we decided to cease printing advisory circulars issued by the Aircraft Certification Service of the FAA, effective October 1, 2007.

Issued in Washington, DC on October 15, 2007.
Dorenda D. Baker,
Deputy Director, Aircraft Certification Service.

[FR Doc. 07-5263 Filed 10-24-07; 8:45 am]

BILLING CODE 4910-13-M